DEPARTMENT OF DEFENSE

Department of the Army; Corps of Engineers

Intent To Prepare a Programmatic Supplemental Environmental Impact Statement for the Louisiana Coastal Area, Louisiana_Comprehensive Coastwide Ecosystem Restoration Feasibility Study

AGENCY: Department of the Army, U.S. Army Corps of Engineers, DoD.

ACTION: Notice of intent.

SUMMARY: Pursuant to section 102(2)(C) of the National Environmental Policy Act (NEPA) of 1969, as amended, the U.S. Army Corps of Engineers, New Orleans District (Corps) intends to prepare a draft programmatic supplemental environmental impact statement (PSEIS) for the Louisiana Coastal Area, Louisiana—Comprehensive Coastwide Ecosystem Restoration Feasibility Study (hereinafter LCA Comprehensive Study). The LCA Comprehensive Study will build on the restoration strategies presented in the Coast 2050 Plan and the May 1999, 905(b) Reconnaissance Report “Section 905(b) (WRDA 86) Analysis Louisiana Coastal Area, Louisiana—Ecosystem Restoration.” The expected outcome of the LCA Comprehensive Study is the identification of restoration projects that would result in sustaining a coastal ecosystem that supports and protects the environment, economy and culture of southern Louisiana and that contributes greatly to the economy and well being of the nation. More than a million acres of Louisiana coastal wetlands have been lost within the last 60 years with current estimates of the Louisiana coastal land loss rate ranging between 25 and 30 square miles per annually (16,000 to 19,000 acres), or about one football field every 25 minutes. Louisiana contains about 40 percent of the wetlands in the United States; yet, nearly 80 percent of all coastal land loss in the lower 48 states today is occurring within Louisiana. Even with current restoration efforts, Louisiana is projected to lose nearly 400,000 acres of marsh and 232,000 acres of swamp by the year 2050, an area the size of Rhode Island.

The LCA Comprehensive Study will supplement previous NEPA-compliance studies, combining the “lessons learned” from previous Louisiana coastal wetlands restoration efforts, and determine the feasibility of developing the existing Coast 2050 restoration strategies into projects for the creation of a programmatic, coast-wide, ecosystem restoration plan. The LCA Comprehensive Study is envisioned as the next step in the natural progression and evolution in our efforts to address the problems and determine opportunities for the adaptive environmental assessment and restoration of the coastal wetlands of Louisiana.

FOR FURTHER INFORMATION CONTACT: Questions regarding the PSEIS may be directed to Dr. William P. Klein, Jr., CEMVN-PM-RS, P.O. Box 60267, New Orleans, Louisiana 70160-0267, telephone (504) 862-2540 or fax (504) 862-2572. Questions regarding the proposed action should be directed to the study manager, Mr. Troy Constance, CEMVN-PM-W, P.O. Box 60267, New Orleans, Louisiana 70160-0267, telephone (504) 862-2742 or fax: (504) 862-1892.

SUPPLEMENTAL INFORMATION:

1. Authority

This study is authorized through Resolutions of the U.S. House of Representatives and Senate Committees on Public Works, October 19, 1967 and April 19, 1967.

2. Proposed Action

Building on the Coast 2050 Plan and the May 1999, 905(b) Reconnaissance Report, the Corps proposes to prepare a PSEIS for the LCA Comprehensive Study. The proposed action would assess, at a feasibility programmatic-level, coastal restoration projects that would sustain a coastal ecosystem that supports and protects the environment, economy and culture of Southern Louisiana and that contributes greatly to the economy and well being of the nation. The LCA Comprehensive Study will supplement previous NEPA documents, combining the “lessons learned” from previous Louisiana coastal wetlands restoration efforts, and develop the existing Coast 2050 restoration strategies into projects for the creation of a programmatic, coast-wide, ecosystem restoration plan.

In December 1998 the Louisiana Coastal Wetlands Conservation and Restoration Task Force and the Wetlands Conservation Authority (constituted under Act 6 R.S. 49:213.1 et seq.) prepared and adopted the Coast 2050 Plan as their official restoration plan. The December 1998 report “Coast 2050: Toward a Sustainable Coastal Louisiana”, also known as the “Coast 2050 Plan”, was developed in recognition of the need for a single comprehensive plan for restoration and sustainability of the Louisiana coastal area. The Coast 2050 Plan, which has been recognized by the state of Louisiana, five Federal agencies, and the local coastal parish governments of Louisiana, serves as the joint coastal restoration plan of the Coastal Wetlands Planning, Protection, and Restoration Act (CWPPRA) and the Louisiana State Wetlands Authority (November 1990, Pub. L. 101-646, Title III).

The LCA Comprehensive Study will assess, at a programmatic feasibility-level, the Coast 2050 Plan. Specifically, the LCA Comprehensive Study will evaluate the restoration strategies identified in the Coast 2050 Plan for each of the four major hydrologic regions of the state, developing those strategies, and selecting plans that best address the ecosystem restoration needs for the entire Louisiana coastal area, while complying with applicable rules, regulations and administration policy.

The purpose of the LCA Comprehensive Study is to determine the feasibility of sustaining a coastal ecosystem that supports and protects the environment, economy and culture of southern Louisiana and that contributes greatly to the economy and well being of the nation. Specifically, the LCA Comprehensive Study will determine the feasibility of achieving the following restoration goals:

1. Sustaining a coastal ecosystem with the essential functions and values of the natural ecosystem;

2. Restoring the ecosystem to the highest practicable acreage of productive and diverse wetlands; and

3. Accomplishing this restoration through an integrated program that has multiple use benefits, benefits not solely for wetlands, but for all the communities, industries and resources of the coast.

4. Developing a comprehensive plan that is coordinated and consistent with other major land use and infrastructure features, particularly with respect to navigation, hurricane protection/flood control, and oil and gas production.

The LCA Comprehensive Study, in addition to conducting a programmatic environmental impact assessment, will supplement the findings from the following NEPA documents:

1. The draft EIS “Land Loss and Marsh Creation, St. Bernard, Plaquemines and Jefferson Parishes, Louisiana” (USACE 1990);

2. The EIS titled “Coastal Wetlands Planning, Protection and Restoration Act Louisiana Coastal Wetlands Restoration Plan” (La Coastal Wetlands Conservation and Restoration Task Force, 1993); and

3. The “Programmatic Hydrologic Management Environmental Impact Statement and Appendixes” (USACE 1996).

Additionally, the LCA Comprehensive Study will utilize and compliment the findings from the following reports and studies:

1. The “Mississippi and Louisiana Estuarine Areas Reconnaissance Report” (USACE 1981);

2. The “Louisiana Coastal Area, Louisiana, Shore and Barrier Island Erosion” Initial Evaluation Study (USACE 1984);

3. MRC/MVD Task Group Report (USACE 1985);

4. Louisiana Coastal Area-Mississippi River Delta Study Recon (USACE 1990);

5. Louisiana Coastal Area—Ecosystem Restoration, Louisiana reconnaissance report approved May 1999; and

6. Mississippi River Sediment, Nutrient, and Freshwater Redistribution (MRSNFR) Study (USACE 2000).

In the 1970s, studies and plans by state, Federal and other interested parties recognized the coastal land loss problem in Louisiana (e.g. Gagliano et al. 1972 report “Environmental Atlas and Multi-use Management Plan for South-Central Louisiana”). Public recognition of not only the environmental importance, but also the economic importance of the rapidly disappearing coastal wetlands in Louisiana prompted an amendment to the Louisiana constitution in 1989: Act 6, LA. R.S. 49:213 et seq. Known also known as the Louisiana Coastal Wetlands Conservation, Restoration and Management Act, Act 6 established the Governor's Office of Coastal Activities, the Office of Coastal Restoration Management within the Department of Natural Resources, as well as providing for a dedicated trust fund for coastal wetlands restoration. Act 6 also directs the production of the annual Coastal Wetlands Conservation and Restoration Plan, which provides site-specific project authorization.

Continuing in the evolution of Louisiana coastal restoration efforts, the November 1990, CWPPRA provided the first national mandate addressing the need for restoration of Louisiana's coastal wetlands. The CWPPRA required preparation of a comprehensive restoration plan that would coordinate and integrate coastal wetlands restoration projects to ensure the long-term conservation of coastal wetlands of Louisiana. In addition to development of the restoration plan, the CWPPRA authorizes the construction of wetland protection and restoration projects, via Project Priority Lists, preparation of a wetland conservation plan, and implementation of a feasibility study to consider flow distribution between the Atchafalaya and Mississippi rivers.

Section 303(b) of the CWPPRA requires preparation of a comprehensive restoration plan. The CWPPRA Main Report and EIS entitled “Louisiana Coastal Wetlands Restoration Plan” was prepared by the CWPPRA Task Force and completed in November 1993. Implementation of the November 1990 CWPPRA has provided the primary experiential basis for coastal restoration experiences across the Louisiana coast.

The CWPPRA provides an annual $5 million (approximately) for planning and $33 million (approximately) for the construction of restoration projects that are typically small in scale and site-specific rather than ecosystem level restoration efforts. Over the past 10 years the CWPPRA, with the completion of the 11th Priority Project List in 2001, has authorized a total of 125 projects. When constructed, all of the projects, to date, would create, restore, protect, or enhance approximately 105,000 acres at a cost of approximately $496 million dollars. Despite the acres gained by implementation of the CWPPRA-funded projects, these acres and those preserved by the existing freshwater diversions from the Mississippi River would prevent only about 25-30 percent of the predicted future marsh loss in Louisiana. There continues to be a need for an adaptive assessment and restoration effort of coastal Louisiana at the ecosystem level which will require significantly greater funding than was conceptualized and is authorized for the CWPPRA because the state continues to suffer a net loss of ranging between approximately 25 to 30 square miles of coastal wetlands per year.

In recognition of the need for a single, coast-wide restoration plan, the Coast 2050 Plan was developed and is described in the December 1998 “Coast 2050: Towards a Sustainable Coastal Louisiana.” The Coast 2050 Plan developed as an outgrowth of lessons learned during implementation of restoration projects under the CWPPRA. The Louisiana Coastal Wetlands Conservation and Restoration Task Force and the Wetlands Conservation Authority prepared and adopted the Coast 2050 Plan as their official restoration plan. The Coast 2050 Plan was provided to the U.S. Department of Commerce by the State of Louisiana to incorporate it into the Louisiana Coastal Resources Program Guidelines. In addition, the Coast 2050 Plan was affirmed by resolutions of support from the local coastal parish governments. The Coast 2050 Plan was used as a basis to produce the May 1999, Reconnaissance Report “Section 905(b) (WRDA 86) Analysis Louisiana Coastal Area, Louisiana—Ecosystem Restoration,” recommending that the strategies contained within the Coast 2050 Plan proceed to feasibility level analysis.

The LCA Comprehensive Study will supplement previous NEPA documents and utilize and compliment previous reports and studies (as described above), combining the “lessons learned” from these efforts and developing the existing restoration strategies into projects for the creation of a programmatic, coast-wide, ecosystem restoration plan. The LCA Comprehensive Study is the next step in the natural progression and evolution in our understanding and efforts to address the problems and determine opportunities for the adaptive environmental assessment and restoration of the coastal wetlands of Louisiana.

3. Need for the Study

The 905(b) Reconnaissance Report recommended that the Coast 2050 plan proceed to the feasibility phase, contingent upon the execution of a Feasibility Cost Sharing Agreement (FCSA) with a non-Federal Sponsor. An FCSA was executed with the Louisiana Department of Natural Resources on February 17, 2000 and amended on March 14, 2002.

The 905(b) Reconnaissance Report estimates that more than a million acres of Louisiana coastal wetlands have been lost within the last 60 years and the current land loss rate ranges between 25 and 30 square miles per annually (16,000 to 19,000 acres), or about one football field every 25 minutes. This accounts for nearly 80 percent of all coastal land loss in the lower 48 states today. The 905(b) Reconnaissance Report concludes that even with current restoration efforts, Louisiana is projected to lose nearly 400,000 acres of marsh and 232,000 acres of swamp by the year 2050, an area the size of Rhode Island.

In February 2002, the Governor's Committee on the Future of Coastal Louisiana (COFCL) prepared a report, “Saving Coastal Louisiana: Recommendations for Implementing an Expanded Coastal Restoration Program,” which provided recommendations as a starting point for a renewed and expanded coastal restoration effort. The COFCL report characterizes Louisiana's land loss crisis as an emergency of untold cost to the state of Louisiana and the nation that must be confronted now, with all available resources. The devastation of the coastal land loss will, according to the COFCL report, directly affect our nation's security, navigation, energy consumption, and food supply. The COFCL report further elaborates that the potential loss of lives, infrastructure, industry, ecosystems and culture cannot be overstated.

4. Study Alternatives

During the Coast 2050 public meetings conducted in 1998, 83 regional ecosystem restoration strategies were developed. In January 2001, these strategies were revised into 88 regional ecosystem restoration strategies. The LCA Comprehensive Study will develop these strategies into features that will be developed further into an array of alternatives that consist of projects. Other restoration alternatives that will be considered include the No Action Alternative, as well as strategies suggested during the scoping process. Alternatives will be evaluated to ensure compliance with current Federal and state laws and regulations. Potential adverse effects of strategies will be identified and recommendations for mitigation measures, if appropriate, will be suggested. A programmatic supplemental EIS is being prepared because of the potential for significant direct and indirect, secondary and cumulative impacts on the human and natural environment.

5. Scoping Process

The Council on Environmental Quality (CEQ) regulations implementing the NEPA direct federal agencies which have made a decision to prepare an environmental impact statement to engage in a public scoping process. The scoping process is designed to provide an early and open means of determining the scope of issues (problems, needs, and opportunities) to be identified and addressed in the draft environmental impact assessment, which in this case is a PSEIS. Scoping is the process used to: (a) Identify the affected public and agency concerns; (b) facilitate an efficient PSEIS preparation process; (c) define the issues and alternatives that will be examined in detail in the PSEIS; and (d) save time in the overall process by helping to ensure that the draft statements adequately address relevant issues. Scoping is a process, not an event or a meeting. It continues throughout the planning for a PSEIS and may involve meetings, telephone conversations, and/or written comments. (Counsel on Environmental Quality, Memorandum for General Counsel, April 30, 1981).

6. Public Scoping Meetings

In the early spring of 2002, the U.S. Army Corps of Engineers will hold initial public scoping meetings throughout the coastal Louisiana study area. Notices will be mailed to the affected and interested public once the dates and locations of the scoping meetings have been established. The USACE and the local sponsor—the Louisiana Department of Natural Resources, invite NEPA input in writing or in person concerning the scope of the PSEIS, resources to be evaluated, and alternatives to be considered. Federal, state, and local agencies, Indian tribes, and other interested parties can write comments to the Corps using Dr. Klein's mailing address shown above. Comments received as a result of the scoping meetings will be compiled and analyzed; a Scoping Document, summarizing the comments, will be made available to all scoping participants. Additional public meetings will be held and comments accepted throughout the scoping process.

7. Public Involvement

Scoping is a critical component of the overall public involvement program. An intensive public involvement program will be initiated and maintained throughout the study to solicit input from affected Federal, state, and local agencies, Indian tribes, and other interested parties.

8. Interagency Coordination

The Department of the Interior, U.S. Fish and Wildlife Interagency Coordination. The Department of Interior, U.S. Fish and Wildlife Service (USFWS), will provide a Fish and Wildlife Coordination Act Report. Coordination will be maintained with the USFWS and the National Marine Fisheries Service regarding threatened and endangered species under their respective jurisdictional responsibilities. Coordination will be maintained with the Natural Resources Conservation Service regarding prime and unique farmlands. The U.S. Department of Agriculture will be consulted regarding the “Swampbuster” provisions of the Food Security Act. Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Streams.

9. Availability of Draft PSEIS

It is anticipated that the Draft PSEIS will be available for public review during the late summer of 2003. A 45-day review period will be allowed so that all interested agencies, groups and individuals will have an opportunity to comment on the draft feasibility report and PSEIS. In addition, a public meeting will be held during the review period to receive comments and address questions concerning the draft PSEIS.

Dated: March 20, 2002.
Michel R. Burt,
Lieutenant Colonel, U.S. Army, Acting District Engineer.

[FR Doc. 02-8175 Filed 4-3-02; 8:45 am]

BILLING CODE 3710-84-P